DEPARTMENT OF THE INTERIOR

Bureau of Land Management

[LLMT926000-11-L19100000-BJ0000-LRCME0R04763]

Notice of Filing of Plats of Survey; Montana

AGENCY: Bureau of Land Management, Interior.

ACTION: Notice of filing of plats of survey.

SUMMARY: The Bureau of Land Management (BLM) will file the plat of survey of the lands described below in the BLM Montana State Office, Billings, Montana, on March 31, 2011.

DATES: Protests of the survey must be filed before March 31, 2011 to be considered.

ADDRESSES: Protests of the survey should be sent to Branch of Cadastral Survey, Bureau of Land Management, 5001 Southgate Drive, Billings, Montana 59101-4669.

FOR FURTHER INFORMATION CONTACT: Steve Toth, Cadastral Surveyor, Branch of Cadastral Survey, Bureau of Land Management, 5001 Southgate Drive, Billings, Montana 59101-4669, telephone (406) 896-5121 or (406) 896-5009.

SUPPLEMENTARY INFORMATION: This survey was executed at the request of the Bureau of Indian Affairs, Rocky Mountain Region, Billings, Montana, and was necessary to determine individual and tribal trust lands.

The lands we surveyed are:

Principal Meridian, Montana

T. 27 N., R. 48 E.

The plat, in two sheets, representing the dependent resurvey of a portion of the subdivisional lines, the corrective dependent resurvey of the line between sections 18 and 19, the dependent resurvey of a portion of the subdivision of sections 19 and 21, the adjusted original meanders of the former left bank of the Missouri River, downstream, through section 19, a certain division of accretion line, and the subdivision of sections 19 and 21, and the survey of the meanders of the present left bank and the informative traverse of the present left bank of the Missouri River, downstream, through section 19, Township 27 North, Range 48 East, Principal Meridian, Montana, was accepted February 16, 2011.

We will place a copy of the plat, in two sheets, and related field notes we described in the open files. They will be available to the public as a matter of information. If the BLM receives a protest against this survey, as shown on this plat, in two sheets, prior to the date of the official filing, we will stay the filing pending our consideration of the protest. We will not officially file this plat, in two sheets, until the day after we have accepted or dismissed all protests and they have become final, including decisions or appeals.

Authority: 43 U.S.C. Chap. 3.

Dated: February 23, 2011.
James D. Claflin,
Chief Cadastral Surveyor, Division of Resources.

[FR Doc. 2011-4518 Filed 2-28-11; 8:45 am]

BILLING CODE 4310-DN-P